NUCLEAR REGULATORY COMMISSION

[Docket No. 72-27; NRC-2024-0153]

Issuance of Exemption Regarding Security Notifications, Reports, and Recordkeeping

AGENCY: Nuclear Regulatory Commission.

ACTION: Exemption; issuance.

SUMMARY: The U.S. Nuclear Regulatory Commission (NRC) is issuing a notice to announce the issuance of an exemption in response to a request from Pacific Gas and Electric Company. This exemption was requested as a result of a change to NRC's regulations published in the Federal Register on March 14, 2023.

DATES: On August 6, 2024, the NRC granted an exemption in response to a request submitted by Pacific Gas and Electric Company on December 4, 2023.

ADDRESSES: Please refer to Docket ID NRC-2024-0153 when contacting the NRC about the availability of information regarding this document. You may obtain publicly available information related to this document using any of the following methods:

• Federal Rulemaking Website: Go to https://www.regulations.gov and search for Docket ID NRC-2024-0153. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Ed Miller, Office of Nuclear Reactor Regulation, U.S. Nuclear Regulatory Commission, Washington, DC 20555-0001; telephone: 301-415-2481, email: Ed.Miller@nrc.gov.

SUPPLEMENTARY INFORMATION:

I. Introduction

On August 6, 2024, the NRC granted an exemption in response to a request submitted by Pacific Gas and Electric Company.

This exemption temporarily allows the licensee to deviate from certain requirements of part 73 of title 10 of the Code of Federal Regulations (10 CFR), “Physical Protection of Plants and Materials,” subpart T, “Security Notifications, Reports, and Recordkeeping.” In support of its exemption request, the licensee agreed to effect site-specific administrative controls that maintain the approach to complying with 10 CFR part 73 in effect prior to the NRC's issuance of a final rule, “Enhanced Weapons, Firearms Background Checks, and Security Event Notifications,” which was published in the Federal Register on March 14, 2023, and became effective on April 13, 2023 (88 FR 15864).

II. Availability of Documents

The table in this notice provides transparency regarding the number and type of exemptions the NRC has issued and provides the facility name, docket number, document description, document date, and ADAMS accession number for each exemption issued. Additional details on the exemption issued, including the exemption request submitted by the licensee and the NRC's decision, are provided in the exemption approval listed in the following table. For additional directions on accessing information in ADAMS, see the ADDRESSES section of this document.

Pacific Gas and Electric Company; Humboldt Bay Independent Spent Fuel Storage Installation; Docket No. 72-27
Document description | ADAMS accession No. | Document date
Pacific Gas and Electric Company [Humboldt Bay Independent Spent Fuel Storage Installation]—Request for Exemption from Enhanced Weapons, Firearms Background Checks, and Security Event Notifications Implementation | ML23338A335 | December 4, 2023.
Pacific Gas and Electric Company [Humboldt Bay Independent Spent Fuel Storage Installation], Supplement to the Request for Exemption from Enhanced Weapons, Firearms Background Checks, and Security Event Notifications Implementation | ML24179A063 | June 26, 2024.
Humboldt Bay Independent Spent Fuel Storage Installation—Exemption from Select Requirements of 10 CFR part 73 | ML24205A084 | August 6, 2024.

Dated: September 12, 2024.
For the Nuclear Regulatory Commission.
David Wrona,
Chief, Plant Licensing Branch II-2, Division of Operating Reactor Licensing, Office of Nuclear Reactor Regulation.

[FR Doc. 2024-21153 Filed 9-17-24; 8:45 am]

BILLING CODE 7590-01-P